DEPARTMENT OF TRANSPORTATION

Federal Aviation Administration

Notice of Intent To Request Approval From the Office of Management and Budget of a New Information Collection Activity, Request for Comments; AST Collection of Voluntary Lessons Learned From External Sources

AGENCY: Federal Aviation Administration (FAA), DOT

ACTION: Notice and request for comments.

SUMMARY: The FAA invites public comments about our intention to request the Office of Management and Budget (OMB) to approve a new information collection. The FAA/AST will collect lessons learned from members of the commercial space industry in order to carry out the safety responsibilities in 49 U.S.C Chapter 701 Section 70103(c).

DATES: Please submit comments by September 13, 2010.

FOR FURTHER INFORMATION CONTACT: Carla Scott on (202) 267-9895, or by e-mail at: Carla.Scott@faa.gov.

SUPPLEMENTARY INFORMATION:

Federal Aviation Administration (FAA)

Title: AST Collection of Voluntary Lessons Learned from External Sources.

Type of Request: New collection.

OMB Control Number: 2120-XXXX.

Form(s): There are no FAA forms associated with this collection.

Affected Public: A total of 20 Respondents.

Frequency: The information is collected on occasion.

Estimated Average Burden per Response: Approximately 1 hour per response.

Estimated Annual Burden Hours: An estimated 30 hours annually.

Abstract: The FAA/AST collects lessons learned from members of the commercial space industry in order to carry out the safety responsibilities in 49 U.S.C Chapter 701 Section 70103(c). These responsibilities include “encourage, facilitate, and promote the continuous improvement of the safety of launch vehicles designed to carry humans.” The FAA/AST collects and shares lessons learned between members of the amateur rocket community, experimental permit holders, licensed launch and reentry operators, and licensed launch and reentry site operators to ensure the safe and successful outcome of launch activities, allowing AST to meet our public safety goals without creating a regulatory burden.

ADDRESSES: Send comments to the FAA at the following address: Ms. Carla Scott, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on July 8, 2010.
Carla Scott,
FAA Information Collection Clearance Officer, IT Enterprises Business Services Division, AES-200.

[FR Doc. 2010-17132 Filed 7-13-10; 8:45 am]

BILLING CODE 4910-13-P